DEPARTMENT OF DEFENSE

Defense Acquisition Regulations System

[OMB Control Number 0704-0225; Docket Number DARS-2016-0041]

Information Collection Requirement; Defense Federal Acquisition Regulation Supplement (DFARS); Administrative Matters

AGENCY: Defense Acquisition Regulations System, Department of Defense (DoD).

ACTION: Notice and request for comments regarding a proposed revision of an approved information collection requirement.

SUMMARY: In compliance with section 3506(c)(2)(A) of the Paperwork Reduction Act of 1995 (44 U.S.C. chapter 35), DoD announces the proposed revision of a public information collection requirement and seeks public comment on the provisions thereof. DoD invites comments on: (a) Whether the proposed collection of information is necessary for the proper performance of the functions of DoD, including whether the information will have practical utility; (b) the accuracy of the estimate of the burden of the proposed information collection; (c) ways to enhance the quality, utility, and clarity of the information to be collected; and (d) ways to minimize the burden of the information collection on respondents, including the use of automated collection techniques or other forms of information technology. The Office of Management and Budget (OMB) has approved this information collection for use through March 31, 2017. DoD proposes that OMB extend its approval for use for three additional years beyond the current expiration date.

DATES: DoD will consider all comments received by December 19, 2016.

ADDRESSES: You may submit comments, identified by OMB Control Number 0704-0225, using any of the following methods:

Federal eRulemaking Portal: http://www.regulations.gov. Follow the instructions for submitting comments.

Email: osd.dfars@mail.mil. Include OMB Control Number 0704-0225 in the subject line of the message.

Fax: 571-372-6094.

Mail: Defense Acquisition Regulations System, Attn: Ms. Carrie Moore, OUSD (AT&L) DPAP (DARS), 3060 Defense Pentagon, Room 3B941, Washington, DC 20301-3060.

Comments received generally will be posted without change to http://www.regulations.gov, including any personal information provided.

FOR FURTHER INFORMATION CONTACT: Ms. Carrie Moore, at 571-372-6093. The information collection requirements addressed in this notice are available on the World Wide Web at: http://www.acq.osd.mil/dpap/dars/dfarspgi/current/index.html. Paper copies are available from Ms. Carrie Moore, OUSD (AT&L) DPAP (DARS), 3060 Defense Pentagon, Room 3B941, Washington, DC 20301-3060.

SUPPLEMENTARY INFORMATION:

Title and OMB Number: Defense Federal Acquisition Regulation Supplement (DFARS), Part 204, Administrative Matters and Related Clauses at 252.204; OMB Control Number 0704-0225.

Needs and Uses: DFARS 204.404-70(a) prescribes the use of the clause at DFARS 252.204-7000, Disclosure of Information, when the contractor will have access to or generate unclassified information that may be sensitive and inappropriate for release to the public. Upon receipt of a contractor's request, the Government reviews the information provided by the contractor to determine if it is sensitive or otherwise inappropriate for release for the stated purpose.

Affected Public: Businesses or other for-profit and not-for profit institutions.

Number of Respondents: 1,196.

Responses per Respondent: Approximately 2.35.

Annual Responses: 2,806.

Average Burden per Response: Approximately 3 hours.

Annual Burden Hours: 8,418.

Reporting Frequency: On occasion.

Summary of Information Collection

DFARS 204.404-70(a) prescribes use of DFARS Clause 252.204-7000, Disclosure of Information, in contracts that require the contractor to access or generate unclassified information that may be sensitive and inappropriate for release to the public. The clause requires the contractor to obtain approval of the contracting officer before release of any unclassified contract-related information outside the contractor's organization, unless the information is already in the public domain. In requesting this approval, the contractor must identify the specific information to be released, the medium to be used, and the purpose for the release.

Jennifer L. Hawes,
Editor, Defense Acquisition Regulations System.

[FR Doc. 2016-25182 Filed 10-17-16; 8:45 am]

BILLING CODE 5001-06-P